DEPARTMENT OF ENERGY

Federal Energy Regulatory Commission

Combined Notice of Filings

Take notice that the Commission has received the following Natural Gas Pipeline Rate and Refund Report filings:

Filings Instituting Proceedings

Docket Numbers: RP13-275-000.

Applicants: Rockies Express Pipeline LLC.

Description: Neg Rate 2012-11-13 ConocoPhillips to be effective 11/13/2012.

Filed Date: 11/13/12.

Accession Number: 20121113-5248.

Comments Due: 5 p.m. ET 11/26/12.

Docket Numbers: RP13-276-000.

Applicants: Maritimes & Northeast Pipeline, L.L.C.

Description: Negotiated Rate Agreement—Barclays to be effective 12/1/2012.

Filed Date: 11/13/12.

Accession Number: 20121113-5253.

Comments Due: 5 p.m. ET 11/26/12.

Docket Numbers: RP13-277-000.

Applicants: DCP Midstream, LP, DCP South Central Texas LLC.

Description: Joint Petition of DCP Midstream, LP and DCP South Central Texas LLC for Temporary Waiver of Capacity Release Regulations and Policies.

Filed Date: 11/13/12.

Accession Number: 20121113-5319.

Comments Due: 5 p.m. ET 11/26/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-254-001.

Applicants: Millennium Pipeline Company, LLC.

Description: Negotiated Rate Service Agmts No. 5582, 135770—Amendment to be effective 11/1/2012.

Filed Date: 11/13/12.

Accession Number: 20121113-5377.

Comments Due: 5 p.m. ET 11/26/12.

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 14, 2012.
Nathaniel J. Davis, Sr.,
Deputy Secretary.

[FR Doc. 2012-28229 Filed 11-20-12; 8:45 am]

BILLING CODE 6717-01-P